FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011353-037.

Title: The Credit Agreement.

Parties: Crowley Latin America Services, LLC; Dole Ocean Cargo Express; King Ocean Services Limited; Seaboard Marine of Florida, Inc.; and Seaboard Marine Ltd.

Filing Party: Wayne R. Rohde, Esquire; Cozen O'Conner; 1627 I Street NW., Suite 1100; Washington, DC 20006-4007.

Synopsis: The amendment would add Crowley Latin American Services, LLC as a party to the Agreement.

Agreement No.: 012067-006.

Title: U.S. Supplemental Agreement to HLC Agreement.

Parties: BBC Chartering & Logistics GmbH & Co. KG; Beluga Chartering GmbH; Chipolbrok; Clipper Project Ltd.; Hyundai Merchant Marine Co., Ltd.; Industrial Maritime Carriers, L.L.C.; Nordana Line A/S; and Rickmers-Linie GmbH & Cie. KG.

Filing Party: Wade S. Hooker, Esquire; 211 Central Park W.; New York, NY 10024.

Synopsis: The amendment adds Hansa Heavy Lift GmbH as party to the HLC Agreement.

Agreement No.: 012116-001.

Title: NYK/Hanjin/Hyundai/Evergreen-Americas North-South Service Agreement.

Parties: Hanjin Shipping Co., Ltd; Hyundai Merchant Marine Co., Ltd; and Nippon Yusen Kaisha.

Filing Party: David F. Smith, Esquire.; Cozen O'Conner; 1627 I Street NW., Suite 1100; Washington, DC 20006-4007.

Synopsis: The amendment renames the agreement, adds Evergreen Line Joint Services Agreement as party, and updates some of the service references in the agreement.

Agreement No.: 012147-001.

Title: GWF/AGRIEX Space Charter Agreement.

Parties: Great White Fleet (US) Ltd. and Agriculture Investment Export, Inc.

Filing Party: Wade S. Hooker, Esquire, 21 Central Park W.; New York, NY 10024.

Synopsis: The amendment changes the name of Great White Fleet (US) Ltd. to Great White Fleet Liner Services, Ltd.

Agreement No.: 012158.

Title: Altex Chartered/Great White Fleet Slot Charter Agreement.

Parties: Altex Chartered, Inc. and Great White Fleet Liner Services, Ltd.

Filing Party: Tara L. Leiter, Esquire; Blank Rome LLP; 600 New Hampshire Avenue NW.; Washington, DC 20037.

Synopsis: The agreement authorizes Altex Chartered to charter space to Great White Fleet on Altex Chartered's vessels in the trade between South America, Central America and the U.S. East Coast.

Agreement No.: 012159.

Title: Maersk Line/New World Alliance Slot Exchange Agreement.

Parties: A.P. Moller-Maersk A/S trading under the name of Maersk Line; American President Lines, Ltd.; APL Co. Pte, Ltd.; Hyundai Merchant Marine Co., Ltd.; and Mitsui O.S.K. Lines, Ltd.

Filing Party: Wayne R. Rohde, Esquire; Cozen O'Connor; 1627 I Street NW., Suite 1100; Washington, DC 20006-4007.

Synopsis: The agreement authorizes the parties to exchange space on their respective services in the trade between the U.S. Atlantic Coast and ports in Panama, the United Kingdom, Germany, the Netherlands and Mediterranean ports in France, Italy and Spain.

Agreement No.: 201179-001.

Title: Lease and Operating Agreement between PRPA and Growmark, Inc.

Parties: Growmark, Inc. and The Philadelphia Regional Port Authority.

Filing Party: Paul D. Coleman, Esquire; Hoppel, Mayer & Coleman; 1050 Connecticut Avenue NW., 10th Floor; Washington, DC 20036.

Synopsis: The amendment provides for an acknowledgement statement that the parties must sign to continue the terms and conditions of the lease.

Dated: March 2, 2012.
By Order of the Federal Maritime Commission.
Karen V. Gregory,
Secretary.

[FR Doc. 2012-5564 Filed 3-6-12; 8:45 am]

BILLING CODE 6730-01-P